DEPARTMENT OF LABOR

Employment and Training Administration

[TA-W-56,905]

The Lane Company, a Subsidiary of Lane Furniture Industries, Inc., a Subsidiary of Furniture Brands International, Altavista, VA; Dismissal of Application for Reconsideration

Pursuant to 29 CFR 90.18(C) an application for administrative reconsideration was filed with the Director of the Division of Trade Adjustment Assistance for workers at The Lane Company, a subsidiary of Lane Furniture Industries, Inc., a subsidiary of Furniture Brands International, AltaVista, Virginia. The application contained no new substantial information which would bear importantly on the Department's determination. Therefore, dismissal of the application was issued.

TA-W-56,905; The Lane Company a subsidiary of Lane Furniture Industries, Inc. a subsidiary of Furniture Brands International, AltaVista, Virginia (June 9, 2005)

Signed at Washington, DC, this 14th day of June, 2005.
Timothy Sullivan,
Director, Division of Trade Adjustment Assistance.

[FR Doc. E5-3230 Filed 6-21-05; 8:45 am]

BILLING CODE 4510-30-P